DEPARTMENT OF JUSTICE

Antitrust Division

Notice Pursuant to the National Cooperative Research and Production Act of 1993; Biotechnology Research and Development Corporation (“BRDC”)

Notice is hereby given that, on November 27, 2000, pursuant to Section 6(a) of the National Cooperative Research and Production Act of 1993, 15 U.S.C. 4301 et seq. (“the Act”), Biology Research and Development Corporation (“BRDC”) has filed written notifications simultaneously with the Attorney General and the Federal Trade Commission disclosing changes in its membership status. The notifications were filed for the purpose of extending the Act's provisions limiting the recovery of antitrust plaintiffs to actual damages under specified circumstances. Specifically, American Home Products Corporation (“AHP”), Parsippany, NJ, which had been dropped as a member of this venture on June 30, 2000, rejoined the venture on September 29, 2000 for a period ending on December 31, 2003.

No other changes have been made in either the membership or planned activity of the group research project. Membership in this group research project remains open, and BRDC intends to file additional written notification disclosing all changes in membership.

On April 13, 1998, BRDC filed its original notification pursuant to Section 6(a) of the Act. The Department of Justice published a notice in the Federal Register pursuant to Section 6(b) of the Act on May 12, 1988 (53 FR 16919).

The last notification was filed with the Department on August 18, 2000. A notice was published in the Federal Register pursuant to Section 6(b) of the Act on October 3, 2000 (65 FR 59017).

Constance K. Robinson,
Director of Operations, Antitrust Division.

[FR Doc. 01-7783 Filed 3-28-01; 8:45 am]

BILLING CODE 4410-11-M